DEPARTMENT OF ENERGY

Federal Energy Regulatory Commission

Combined Notice of Filings #1

Take notice that the Commission received the following exempt wholesale generator filings:

Docket Numbers: EG15-132-000.

Applicants: CED Alamo 5, LLC.

Description: Self-certification as an exempt wholesale generator of CED Alamo 5, LLC.

Filed Date: 9/29/15.

Accession Number: 20150929-5130.

Comments Due: 5 p.m. ET 10/20/15.

Take notice that the Commission received the following electric rate filings:

Docket Numbers: ER10-1817-010; ER10-1820-014; ER10-1819-011; ER10-1818-009.

Applicants: Southwestern Public Service Company.

Description: Supplement to June 30, 2015 Triennial Market Power Analysis of Southwestern Public Service Company, et al.

Filed Date: 9/25/15.

Accession Number: 20150925-5301.

Comments Due: 5 p.m. ET 10/16/15.

Docket Numbers: ER15-1473-002.

Applicants: Midcontinent Independent System Operator, Inc.

Description: Report Filing: 2015-09-29_SA 2771 Refund Report of ATC-Cloverland CFA to be effective N/A.

Filed Date: 9/29/15.

Accession Number: 20150929-5111.

Comments Due: 5 p.m. ET 10/20/15.

Docket Numbers: ER15-1861-000.

Applicants: Tucson Electric Power Company.

Description: Report Filing: Refund Report to be effective N/A.

Filed Date: 9/29/15.

Accession Number: 20150929-5002.

Comments Due: 5 p.m. ET 10/20/15.

Docket Numbers: ER15-1862-000.

Applicants: Tucson Electric Power Company.

Description: Report Filing: Refund Report to be effective N/A.

Filed Date: 9/29/15.

Accession Number: 20150929-5003.

Comments Due: 5 p.m. ET 10/20/15.

Docket Numbers: ER15-2720-001; ER15-2689-001; ER15-2688-001.

Applicants: WestRock CP, LLC, MeadWestvaco Coated Board, LLC, MeadWestvaco Virginia Corporation.

Description: Notice of Non-Material Change in Status of the WestRock MBR Sellers.

Filed Date: 9/28/15.

Accession Number: 20150928-5344.

Comments Due: 5 p.m. ET 10/19/15.

Docket Numbers: ER15-2736-000.

Applicants: PJM Interconnection, L.L.C., Commonwealth Edison Company.

Description: § 205(d) Rate Filing: ComEd submits Amended Facilities, Interconnection, and Easement Agreement 4266 to be effective 9/28/2015.

Filed Date: 9/28/15.

Accession Number: 20150928-5305.

Comments Due: 5 p.m. ET 10/19/15.

Docket Numbers: ER15-2737-000.

Applicants: Beethoven Wind, LLC.

Description: Tariff Cancellation: Notice of cancellation to be effective 9/29/2015.

Filed Date: 9/28/15.

Accession Number: 20150928-5308.

Comments Due: 5 p.m. ET 10/19/15.

Docket Numbers: ER15-2738-000.

Applicants: Sierra Pacific Power Company.

Description: Initial rate filing: Rate Schedule No. 68—SPPC Concurrence with PG&E Service Agreement 84 to be effective 10/31/2015.

Filed Date: 9/28/15.

Accession Number: 20150928-5310.

Comments Due: 5 p.m. ET 10/19/15.

Docket Numbers: ER15-2739-000.

Applicants: PJM Interconnection, L.L.C., Trans-Allegheny Interstate Line Company, West Penn Power Company, The Potomac Edison Company, Pennsylvania Electric Company, Metropolitan Edison Company, Monongahela Power Company.

Description: § 205(d) Rate Filing: Trans-Allegheny, et al. submits service agreement nos. 2149, 3743, and 3818 to be effective 10/1/2015.

Filed Date: 9/29/15.

Accession Number: 20150929-5090.

Comments Due: 5 p.m. ET 10/20/15.

Docket Numbers: ER15-2740-000.

Applicants: Central Hudson Gas & Electric Corporation.

Description: § 205(d) Rate Filing: Revision to FERC Rate Schedule 206 to be effective 7/1/2015.

Filed Date: 9/29/15.

Accession Number: 20150929-5101.

Comments Due: 5 p.m. ET 10/20/15.

Take notice that the Commission received the following electric securities filings:

Docket Numbers: ES15-66-000.

Applicants: El Paso Electric Company.

Description: Supplement to September 9, 2015 Application of El Paso Electric Company for FPA Section 204 authorization.

Filed Date: 9/16/15.

Accession Number: 20150916-5070.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2015.
Nathaniel J. Davis, Sr.,
Deputy Secretary.

[FR Doc. 2015-25651 Filed 10-7-15; 8:45 am]

BILLING CODE 6717-01-P